DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of April 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A) (I.C.) (Increased imports) and (a) (2)(B) (II.B) (No shift in production to a foreign country) have not been met.

TA-W-50,654; Arizona Chemical Co., Esters Department, Dover, OH

TA-W-50,651; Vishay BLH, Inc., Canton, MA

TA-W-51,175; Jamestown Precision Wooling, Inc., Jamestown Div., Jamestown, NY

TA-W-51,206; Hosokawa Micron International, Inc., Hosokawa Manufacturing Div., Santa Rosa, CA

TA-W-51,265; Galt Alloys, Inc., a subsidiary of RTI International, Canton, OH

TA-W-50,803; Rock-Tenn Co., El Paso, TX

TA-W-50,860; Cannondale Corp., Motorsports Plant, Bedford, PA

TA-W-51,044; Greenlee-Fairmont, a wholly-owned subsidiary of Textron, Inc., Fairmont, MN

TA-W-50,427; Boxboard Packaging, Inc., Norwalk, OH

TA-W-51,569; Arris Group, Inc., Formerly Arris Interactive, LLC and Antec, Keptel Div., Rock Falls Facility, Rock Falls, IL

TA-W-50,075; Mayville Engineering Co., Inc., Mayville, WI

TA-W-50,205; McInnes Rolled Rings, Erie, PA

TA-W-50,447; Fulton Bellows and Components, Knoxville, TN

TA-W-50,580; Allsteel, Inc., Casegoods Div., An Operating Unit of Hon Industries, Inc., West Hazelton, PA

TA-W-50,597 &A; Harriet & Henderson Yarns, Inc., J.D. Plant, Henderson, NC and Henderson Plant, Henderson, NC

TA-W-50,823; Alcoa Composition Foils, Pevely, MO

TA-W-51,005; Louisiana Pacific Corp., Missoula, MT

TA-W-51,045; Precision Cast Parts, Steel Plant, Portland, OR

TA-W-51,011; Ivy Steel & Wire, a Div. of MMI Products, Inc., Baltimore, MD

TA-W-51,320; Heath Electronic Manufacturing Corp., Glenns Ferry, ID

TA-W-51,355; Culp, Inc., Rossville Div., Chattanooga, TN

TA-W-51,443; Automotive Ignition Co., Inc., Pittsburgh, PA

TA-W-51,466; Fishing Vessel (F/V) Fawcett Point, State of Alaska Commercial Fisheries Entry Commission Permit # S04K595562L, Old Harbor, AK

TA-W-51,562; The Interflex Group, Ashland, VA

TA-W-51,596; State of Alaska Commercial Fisheries Entry Commission Permit #S04T65030C, Nondalton, AK

The workers firm does not produce an article as required for certification under section 222 of the Trade Act of 1974.

TA-W-51,101; Agilent Technologies, ASIC Product Div., Fort Collins, CO

TA-W-51,111; General Magnetic Technology, Inc., Lake Worth, FL

TA-W-51,203; Arrow Electronics, Inc., BP Branch, Foothill Ranch, CA

TA-W-51,335; General Electric Industrial Systems, Drives and Controls, Inc., Salem, VA

TA-W-51,054; Sonicblue, Inc., Call Center, Tigard, OR

TA-W-51,189; Nokia, Inc., Broadband Systems Div., Santa Rosa, CA

TA-W-51,085; Fluor Daniel, Rochester, MN

TA-W-51,103; Toshiba America Electronic Components, Inc., Design Center, Beaverton, OR

TA-W-51,127; Omega Worldwide, Inc., Corporate Office, Ann Arbor, MI

TA-W-51,315; Cela Fabrics, Inc., New York, NY

TA-W-51,352; Friedman Bag Co., Inc., Portland, OR

TA-W-51,410; Gates Mills, Inc., Johnstown, NY

TA-W-51,537; Tru-Stitch Footwear, Div. of Wolverine Worldwide, Inc., Malone, NY

TA-W-51,534; HTP Security, Inc., Goldendale, WA

TA-W-51,528; Battery Sales, Inc., Hempstead, NY

The investigation revealed that criterion (a)(2)(A) (I.A) (no employment declines) have not been met.

TA-W-50,337; Maclean-ESNA, a subsidiary of Maclean Fogg Co., Pocahontas, AR

TA-W-51,601; Schroder Boards, Bingen, WA

The investigation revealed that criterion (a)(2)(A) (I.B.) (Sales or production, or both, did not decline) and (II.B) (has shifted production to a country not under the free trade agreement with the U.S.) have not been met.

TA-W-51,326; Ross Mould, Inc., Washington, PA

The investigation revealed that criteria (2) has not been met. The workers firm (or subdivision) is not a supplier or downstream producer to trade-affected companies.

TA-W-51,403; Clariant Corp., Oak Creek, WI

The following certification has been issued. The requirement of (a)(2)(A) (increased imports) of section 222 has been met.

TA-W-51,246; Cold Metal Products, Youngstown, OH

Affirmative Determinations for Worker Adjustment Assistance

The following certifications have been issued; the date following the company name and location of each determination references the impact date for all workers of such determination.

The following certifications have been issued. The requirements of (a)(2)(A) (increased imports) of Section 222 have been met.

TA-W-50,133 &A; Phelps Dodge Corp., Phelps Dodge Wire and Cable Group, Phelps Dodge High Performance Conductors (Div), West Caldwell, NY and Phelps Dodge Specialty Copper Products (Div), Elizabeth, NJ: November 14, 2001.

TA-W-51,365; Dirigo Stitching, Inc., Skowhegan, ME: March 26, 2002.

TA-W-51,395; Lexington Home Brands, Plants 1,2,4,5 and 12, Lexington, NC: March 31, 2002.

TA-W-51,460; Mettler Toledo, Inc., Spartanburg Product Organization, Inman, SC: April 8, 2002.

TA-W-51,505; KMC Products, Inc., d/b/a KMC Wheel Co., Riverside, CA: March 31, 2002.

TA-W-51,427; Rhodia, Inc., Freeport, TX: March 28, 2002.

TA-W-50,975; Pasco Tool & Plastics, Inc., Meadville, PA: February 24, 2002.

TA-W-51,137; SASOL North America, Inc., Baltimore, MD: March 13, 2002.

TA-W-51,196; Siemens Energy & Automation, Inc., Power Conversion Div., Norwood, OH: January 13, 2002.

TA-W-51,290; Glassco, IN., d/b/a Traditions Lamp Co., Altoona, AL: March 24, 2002.

TA-W-50,678; Keller Manufacturing Co., Inc., Culpeper, VA: January 22, 2002.

TA-W-50,878; Cannondale Corp., Bicycle Plant, Bedford, PA: February 10, 2002.

TA-W-50,045; Domestic Manufacturing Corp., Kinston, NC: November 12, 2001.

TA-W-50,879; Maine Brand Manufacturing, Inc., Littleton, ME: February 12, 2002.

TA-W-50,668; JDS Uniphase Corp., Lundy facility, Optical Layer Group, San Jose, CA: December 9, 2001.

TA-W-50,382; Reddog Industries, Inc., Erie, PA: December 17, 2001.

TA-W-50,654; Arizona Chemical Co., Sebacic Department and Esters Department, Dover, OH: January 21, 2002.

TA-W-50,742 &A,B; Tweel Home Furnishing, Newark, NJ and Harrison, NJ and Lakewood, NJ: January 24, 2002.

TA-W-50,938; Rexnord Industries, Inc., Milwaukee, WI: February 21, 2002.

TA-W-50,953; Advanced Energy, Voorhees, NJ: February 19, 2002.

TA-W-50,978; The Magnus Group, Inc., d/b/a Progressive Information Technologies, Emigsville, PA: February 20, 2002.

TA-W-51,062; Ethan Allen, Inc., Dudley Plant, Dudley, MA: February 25, 2002.

TA-W-51,289 &A; Sun Hill Industries, including temporary workers of Adecco, Scotia, NY and Stamford, CT: March 18, 2002.

TA-W-51,115; Meadwestvaco Corp., Luke, MD: March 7, 2002.

TA-W-51,215; Hydromatic Pump, Ashland, OH: March 5, 2002.

TA-W-51,192; U.S. Textile Corp., Newland, NC: March 12, 2002.

TA-W-51,233; Universal Stainless and Alloy Products, Bridgeville, PA: March 17, 2002.

TA-W-51,349; Alpharma, Inc., Hannibal Manufacturing Plant, including leased workers of BASF, Palmyra, MO: March 27, 2002.

TA-W-51,441; Rochester Button Co., Inc., Kenbridge, VA and South Boston, VA: April 14, 2002.

TA-W-51,481; Alexandra Fashions, Inc., North Bergen, NJ: March 31, 2002.

TA-W-51,483; Whiting & Davis, Inc., a div. of Bacou-Dallos and leased workers of Adecco, Attleboro Falls, MA: April 10, 2002.

The following certifications have been issued. The requirements of (a)(2)(B) (shift in production) of Section 222 have been met.

TA-W-50,260; Motorola, Inc., Semiconductor Products Sector, Bipolar Manufacturing Center, Mesa, AZ: December 5, 2001.

TA-W-51,323; Michael Anthony Jewelers, Inc., Mt. Vernon, NY: February 28, 2002.

TA-W-51,430 &A,B; Triangle Suspension Systems, Inc., DuBois, PA, Brentwood, TN and Fontana, CA: April 3, 2002.

TA-W-50,615; BP Solor, LLC, Toano, VA: January 18, 2002.

TA-W-50,650; Davol, Inc., Lawrence, KS: January 22, 2002.

TA-W-50,733; Nidec America Corp., Power General Div., Canton, MA: January 29, 2002.

TA-W-51,517; Ace's Sanding Shop, Thomasville, NC: April 14, 2002.

TA-W-50,743; The compare Corp., Sidney, OH: January 16, 2002.

TA-W-50,807; MCB, Inc., d/b/a Wild Rose, Los Angeles, CA: January 21, 2002.

TA-W-51,322; Alburg Door & Window Ltd., Alburg, VT: March 24, 2002.

TA-W-51,398; Textron Fastening Systems, Syntek Operations, a wholly owned subsidiary of Textron, Inc., including leased workers of QSP Staffing, Rockford, IL: March 21, 2002.

TA-W-51,416; Weyerhaeuser Box Plant, Laredo, TX: March 18, 2002.

TA-W-51,444; Lindley Laboratories, Inc., Gibsonville, NC: March 31, 2002.

TA-W-51,487 & A; R.A.G.S., Inc., Lexington, NC and Richfield, NC: April 11, 2002.

TA-W-51,476; Ultra cutting, Inc., Medley, FL: April 2, 2002.

The following certification has been issued. The requirement of upstream supplier to a trade certified primary firm has been met.

TA-W-51,319; Gem Island Enterprises, a/b/a Opal Industries, Morganton, NC: March 18, 2002.

Also, pursuant to Title V of the North American Free Trade Agreement Implementation Act (Pub.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of April 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None

The investigation revealed that the criteria for eligibility have not been met for the reasons specified.

The investigation revealed that the workers of the subject firm did not produce an article within the meaning of Section 250(a) of the Trade Act, as amended.

None

Affirmative Determinations NAFTA-TAA

None

I hereby certify that the aforementioned determinations were issued during the month of April 2003. Copies of these determinations are available for inspection in Room C-5311, U.S. Department of Labor, 200 Constitution Avenue, NW., Washington, DC 20210 during normal business hours or will be mailed to persons who write to the above address.

Dated: May 2, 2003.
Terrence Clark,
Acting Director, Division of Trade Adjustment Assistance.

[FR Doc. 03-11552 Filed 5-8-03; 8:45 am]

BILLING CODE 4510-30-P